DEPARTMENT OF ENERGY

Federal Energy Regulatory Commission

Combined Notice of Filings No. 2

December 16, 2010.

Take notice that the Commission has received the following Natural Gas Pipeline Rate and Refund Report filings:

Docket Numbers: RP10-1232-001.

Applicants: Iroquois Gas Transmission System, L.P.

Description: Iroquois Gas Transmission System, L.P. submits tariff filing per 154.203: NAESB filing to support index-based capacity releases on a manual basis to be effective 12/15/2010.

Filed Date: 12/15/2010.

Accession Number: 20101215-5079.

Comment Date: 5 p.m. Eastern Time on Monday, December 27, 2010.

Docket Numbers: RP11-1433-001.

Applicants: Central New York Oil And Gas, LLC.

Description: Central New York Oil And Gas, LLC submits tariff filing per 154.203: Central New York Oil And Gas Company, LLC—NAESB Compliance Filing RP11-1433 to be effective 10/7/2010.

Filed Date: 12/15/2010.

Accession Number: 20101215-5118.

Comment Date: 5 p.m. Eastern Time on Monday, December 27, 2010.

Docket Numbers: RP11-1493-001.

Applicants: Portland General Electric Company.

Description: Portland General Electric Company submits tariff filing per 154.203: RP11-1493 Compliance Filing of Portland General Electric to be effective 12/15/2010.

Filed Date: 12/15/2010.

Accession Number: 20101215-5017.

Comment Date: 5 p.m. Eastern Time on Monday, December 27, 2010.

Docket Numbers: RP11-34-001.

Applicants: WestGas InterState, Inc.

Description: WestGas InterState, Inc. submits tariff filing per 154.203: 20101215_Compliance Filing 587-U to be effective 11/1/2010.

Filed Date: 12/15/2010.

Accession Number: 20101215-5129.

Comment Date: 5 p.m. Eastern Time on Monday, December 27, 2010.

Docket Numbers: RP11-75-001.

Applicants: Arlington Storage Company, LLC.

Description: Arlington Storage Company, LLC submits tariff filing per 154.203: Arlington Storage Company, LLC—NAESB Compliance Filing to be effective 10/1/2010.

Filed Date: 12/15/2010.

Accession Number: 20101215-5086.

Comment Date: 5 p.m.Eastern Time on Monday, December 27, 2010.

Docket Numbers: RP11-79-001.

Applicants: Steuben Gas Storage Company.

Description: Steuben Gas Storage Company submits tariff filing per 154.203: Steuben Gas Storage Company—NAESB Compliance Filing to be effective 10/1/2010.

Filed Date: 12/15/2010.

Accession Number: 20101215-5090.

Comment Date: 5 p.m. Eastern Time on Monday, December 27, 2010.

Docket Numbers: RP10-660-002.

Applicants: North Baja Pipeline, LLC.

Description: North Baja Pipeline, LLC submits tariff filing per 154.203: RP10-660 Compliance to be effective 4/28/2010.

Filed Date: 12/16/2010.

Accession Number: 20101216-5034.

Comment Date: 5 p.m. Eastern Time on Tuesday, December 28, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-32203 Filed 12-22-10; 8:45 am]

BILLING CODE 6717-01-P